DEPARTMENT OF AGRICULTURE

Submission for OMB Review; Comment Request

August 6, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: 7 CFR 1942-C, “Fire and Rescue Loans”.

OMB Control Number: 0575-0120.

Summary of Collection: The Rural Housing Service (RHS) is authorized by Section 306 of the Consolidated Farm and Rural Development Act (7 U.S.C. 1926) to make loans to public agencies, nonprofit corporations, and Indian tribes for the development of essential community facilities primarily servicing rural residents. 7 CFR 1942-A is the primary regulation for administering the Community Facility Program.

Need And Use of the Information: The Rural Development field offices will collect the information from applicant/borrowers. The information is used to determine eligibility, analyze financial feasibility, monitor the use of loan funds and the financial condition of borrowers, and otherwise assisting borrowers.

Description of Respondents: Not-for-profit institutions; State, Local or Tribal Government.

Number of Respondents: 1,544.

Frequency of Responses: Reporting: On occasion; Quarterly; Annually.

Total Burden Hours: 8,232.

Sondra Blakey,
Departmental Information Collection Clearance Officer.

[FR Doc. 04-18505 Filed 8-12-04; 8:45 am]

BILLING CODE 3410-XT-M